DEPARTMENT OF TRANSPORTATION

Federal Aviation Administration

14 CFR Part 39

[Docket No. FAA-2015-3642; Directorate Identifier 2015-CE-028-AD; Amendment 39-18335; AD 2015-24-03]

RIN 2120-AA64

Airworthiness Directives; SOCATA Airplanes

AGENCY: Federal Aviation Administration (FAA), Department of Transportation (DOT).

ACTION: Final rule.

SUMMARY: We are adopting a new airworthiness directive (AD) for SOCATA Model TB 9, TB 10, TB 20, TB 21, and TB 200 airplanes. This AD results from mandatory continuing airworthiness information (MCAI) issued by an aviation authority of another country to identify and correct an unsafe condition on an aviation product. The MCAI describes the unsafe condition as corrosion of the horizontal stabilizer. We are issuing this AD to require actions to address the unsafe condition on these products.

DATES: This AD is effective January 4, 2016.

The Director of the Federal Register approved the incorporation by reference of a certain publication listed in the AD as of January 4, 2016.

ADDRESSES: You may examine the AD docket on the Internet at http://www.regulations.gov by searching for and locating Docket No. FAA-2015-3642; or in person at Document Management Facility, U.S. Department of Transportation, Docket Operations, M-30, West Building Ground Floor, Room W12-140, 1200 New Jersey Avenue SE., Washington, DC 20590.

For service information identified in this AD, contact SOCATA NORTH AMERICA, North Perry Airport, 601 NE 10 Street, Pompano Beach, Florida 33060; phone: (954) 366-3331; Internet: http://www.socatanorthamerica.com/default.htm. You may view this referenced service information at the FAA, Small Airplane Directorate, 901 Locust, Kansas City, Missouri 64106. For information on the availability of this material at the FAA, call (816) 329-4148. It is also available on the Internet at http://www.regulations.gov by searching for Docket No. FAA-2015-3642.

FOR FURTHER INFORMATION CONTACT: Albert J. Mercado, Aerospace Engineer, FAA, Small Airplane Directorate, 901 Locust, Room 301, Kansas City, Missouri 64106; telephone: (816) 329-4119; fax: (816) 329-4090; email: albert.mercado@faa.gov.

SUPPLEMENTARY INFORMATION:

Discussion

We issued a notice of proposed rulemaking (NPRM) to amend 14 CFR part 39 by adding an AD that would apply to SOCATA Models TB 9, TB 10, TB 20, TB 21, and TB 200 airplanes. The NPRM was published in the Federal Register on August 28, 2015 (80 FR 52215). The NPRM proposed to correct an unsafe condition for the specified products and was based on mandatory continuing airworthiness information (MCAI) originated by an aviation authority of another country. The MCAI states:

During accomplishment of SOCATA Service Bulletin (SB) SB10-152-55 at original issue, some operators reported finding heavy corrosion of the horizontal stabilizer (HS) spar.

The results of the technical investigation have identified that the corrosion was caused by humidity ingress in the HS on aeroplanes subject to severe environmental conditions.

This condition, if not detected and corrected, could result in buckling and permanent HS distortion, possibly resulting in reduced control of the aeroplane.

To address this unsafe condition, SOCATA issued SB 10-152-55 Revision 1 to provide instructions for inspection and corrective action.

For the reasons described above, this AD requires repetitive inspections of the affected area of the HS and, depending on findings, accomplishment of applicable corrective action(s).

The MCAI can be found in the AD docket on the Internet at: http://www.regulations.gov/#!documentDetail;D=FAA-2015-3642-0001.

Comments

We gave the public the opportunity to participate in developing this AD. The following presents the comment received on the proposal and the FAA's response to the comment.

Request

Anthony Pynes commented that that he does not believe the methodology used and the foundational data available supports the need for this AD, and thus he believes that this AD is not necessary.

We do not agree. The FAA, in working with the State of Design airworthiness authority (EASA), determined that the actions of this AD on the horizontal stabilizer of the affected airplanes are necessary to correct an unsafe condition. Included in this is the risk in establishing such actions at the required compliance times. No changes to the AD have been made based on this comment.

Conclusion

We reviewed the relevant data, considered the comment received, and determined that air safety and the public interest require adopting the AD as proposed except for minor editorial changes. We have determined that these minor changes:

• Are consistent with the intent that was proposed in the NPRM (80 FR 52215, August 28, 2015) for correcting the unsafe condition; and

• Do not add any additional burden upon the public than was already proposed in the NPRM (80 FR 52215, August 28, 2015).

Related Service Information Under 1 CFR Part 51

We reviewed DAHER-SOCATA TB Aircraft Mandatory Service Bulletin SB 10-152, Amendment 1, dated April 2015. The service information describes procedures for inspection for corrosion on the horizontal stabilizer spar and repair, if necessary. This service information is reasonably available because the interested parties have access to it through their normal course of business or by the means identified in the ADDRESSES section of the AD.

Costs of Compliance

We estimate that this AD will affect 195 products of U.S. registry. We also estimate that it would take about 2 work-hours per product to comply with the basic requirements of this proposed AD. The average labor rate is $85 per work-hour.

Based on these figures, we estimate the cost of this AD on U.S. operators to be $33,150, or $170 per product.

In addition, we estimate that any necessary follow-on actions would take about 15 to 38 work-hours and require parts costing $250 to $400 depending on the type of repair, for a cost of $2,325 to $4,280 per product. The cost may vary depending on the extent of damage found. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov by searching for and locating Docket No. FAA-2015-3642; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2015-24-03 SOCATA: Amendment 39-18335; Docket No. FAA-2015-3642; Directorate Identifier 2015-CE-028-AD.

(a) Effective Date

This airworthiness directive (AD) becomes effective January 4, 2016.

(b) Affected ADs

None.

(c) Applicability

This AD applies to SOCATA Models TB 9, TB 10, TB 20, TB 21, and TB 200 airplanes, all manufacturer serial numbers, certificated in any category.

(d) Subject

Air Transport Association of America (ATA) Code 55: Stabilizers.

(e) Reason

This AD was prompted by mandatory continuing airworthiness information (MCAI) originated by an aviation authority of another country to identify and correct an unsafe condition on an aviation product. The MCAI describes the unsafe condition as corrosion of the horizontal stabilizer. We are issuing this AD to detect and correct corrosion of the horizontal stabilizer (HS) spar, which could result in buckling and permanent HS distortion, possibly resulting in reduced control.

(f) Actions and Compliance

Unless already done, do the actions in paragraphs (f)(1) through (f)(5) of this AD:

(1) Within 13 months after January 4, 2016 (the effective date of this AD) and repetitively thereafter at intervals not to exceed 72 months, do a special detailed inspection of the HS spar following the instructions of DAHER-SOCATA TB Aircraft Mandatory Service Bulletin SB 10-152, Amendment 1, dated April 2015.

(2) If no discrepancy is detected during any inspections required by paragraph (f)(1) of this AD, protect the HS spar following the instructions of DAHER-SOCATA TB Aircraft Mandatory Service Bulletin SB 10-152, Amendment 1, dated April 2015.

(3) If any discrepancy is detected during any inspection required by paragraph (f)(1) of this AD, before further flight, do the applicable corrective action(s) following the instructions of DAHER-SOCATA TB Aircraft Mandatory Service Bulletin SB 10-152, Amendment 1, dated April 2015.

(4) Accomplishment of protection or corrective actions on an airplane as required by paragraph (f)(2) or (f)(3) of this AD, as applicable, does not constitute terminating action for the repetitive inspections as required by paragraph (f)(1) of this AD for that airplane.

(5) Inspections and corrective actions on an airplane done before January 4, 2016 (the effective date of this AD) following the instructions of DAHER-SOCATA TB Aircraft Recommended Service Bulletin SB 10-152, dated May 2013, are acceptable to comply with the requirements of this AD for that airplane. After January 4, 2016 (the effective date of this AD), repetitive inspections and applicable corrective actions, as required by this AD, must be done as required by paragraph (f)(1) of this AD following the instructions of DAHER-SOCATA TB Aircraft Mandatory Service Bulletin SB 10-152, Amendment 1, dated April 2015.

(g) Other FAA AD Provisions

The following provisions also apply to this AD:

(1) Alternative Methods of Compliance (AMOCs): The Manager, Standards Office, FAA, has the authority to approve AMOCs for this AD, if requested using the procedures found in 14 CFR 39.19. Send information to ATTN: Albert Mercado, Aerospace Engineer, FAA, Small Airplane Directorate, 901 Locust, Room 301, Kansas City, Missouri 64106; telephone: (816) 329-4119; fax: (816) 329-4090; email: albert.mercado@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI European Aviation Safety Agency (EASA) AD No. 2015-0130, dated July 7, 2015; and DAHER-SOCATA TB Aircraft Recommended Service Bulletin SB 10-152, dated May 2013, for related information. The MCAI can be found in the AD docket on the Internet at: http://www.regulations.gov/#!documentDetail;D=FAA-2015-3642-0001.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) DAHER-SOCATA TB Aircraft Mandatory Service Bulletin SB 10-152, Amendment 1, dated April 2015.

(ii) Reserved.

(3) For SOCATA service information identified in this AD, contact SOCATA NORTH AMERICA, North Perry Airport, 601 NE 10 Street, Pompano Beach, Florida 33060; phone: (954) 366-3331; Internet: http://www.socatanorthamerica.com/default.htm.

(4) You may review this referenced service information at the FAA, Small Airplane Directorate, 901 Locust, Kansas City, Missouri 64106. For information on the availability of this material at the FAA, call (816) 329-4148. In addition, you can access this service information on the Internet at http://www.regulations.gov by searching for and locating Docket No. FAA-2015-3642.

(5) You may view this service information that is incorporated by reference at the National Archives and Records Administration (NARA). For information on the availability of this material at NARA, call 202-741-6030, or go to: http://www.archives.gov/federal-register/cfr/ibr-locations.html.

Issued in Kansas City, Missouri, on November 17, 2015.
Melvin Johnson,
Acting Manager, Small Airplane Directorate, Aircraft Certification Service.

[FR Doc. 2015-29876 Filed 11-25-15; 8:45 am]

BILLING CODE 4910-13-P